DEPARTMENT OF HEALTH AND HUMAN SERVICES

Centers for Disease Control and Prevention

[Program Announcement 03004]

Improving the Health, Education, and Well-Being of Young People Through Coordinated School Health Programs; Notice of Availability of Funds

A. Purpose

The Centers for Disease Control and Prevention (CDC), announces the expected availability of fiscal year (FY) 2003 funds for cooperative agreements between CDC and state education agencies (SEA) and large city local education agencies (LEA) to improve the health, education, and well-being of young people through coordinated school health programs. This program announcement supports 15 health promotion and disease prevention objectives related to school-age youth in Healthy People 2010 and Strategy two of the CDC's HIV Prevention Strategic Plan Through 2005; and addresses at least the following specific outcome objectives:

• Increase the proportion of adolescents (grades 9 thru 12) who abstain from sexual intercourse or use condoms if currently sexually active (with special emphasis on reaching youth of color).

• Reduce the proportion of adolescents (grades 9 thru 12) who have had multiple sex partners (with special emphasis on reaching youth of color).

• Reduce the proportion of sexually active adolescents (grades 9 thru 12) who used alcohol or drugs before last sexual intercourse (with special emphasis on reaching youth of color).

• Increase the proportion of adolescents (grades 9 thru 12) who consume at least five daily servings of fruits and vegetables.

• Increase the proportion of adolescents (grades 9 thru 12) who engage in vigorous physical activity that promotes cardiorespiratory fitness three or more days per week for 20 minutes or more per occasion.

• Reduce the proportion of adolescents who are at risk for being overweight or are overweight.

• Reduce the proportion of adolescents (grades 9 thru 12) who smoke cigarettes or use other tobacco products.

• Decrease the number of school days missed for youth with persistent asthma.

• Increase the percentage of youth with persistent asthma who have asthma care plans on file at school.

• Decrease the incidence of foodborne illnesses among youth.

This program announcement also targets the Government Performance and Reporting Act (GPRA) Performance Goals of achieving and maintaining the percentage of high school students who are taught about HIV/AIDS prevention in school at ninety percent or greater.

The Centers for Disease Control and Prevention, National Center for Chronic Disease Prevention and Health Promotion is issuing this program announcement to support implementation and integration of current school health efforts (See the Logic Model for State-based School Health Programs and the Logic Model for Local Education Agency-based Programs in Attachment I), consolidate State and local education agency grant programs, simplify and streamline the grant pre-award and post-award administrative process, measure performance related to each grantee's stated objectives, and identify and establish long-term goals of a school health program through stated performance measures. Some examples of the benefits of the streamlined process are: the semi-annual progress report and budget will be used to process continuation applications; reporting expectations will be consistent across priority areas; and increased flexibility will be available within approved budget categories. This announcement will allow CDC to consider a higher level of funding for continuing programs based on annual performance and availability of funding. This announcement will also allow CDC to expand support for additional school health efforts (which may include, but not limited to programs to reduce school environmental hazards, unintentional injuries and violence, diabetes, Sexually Transmitted Disease (STD) infection and unplanned pregnancy, other infectious diseases, skin cancer, and stigma and complications from epilepsy; strengthen science education; improve oral health and childhood immunization; promote mental health; promote efforts to help youth abstain from sexual intercourse; prepare for possible unintentional emergencies (e.g., fires, tornadoes, or chemical spills) and intentional emergencies (e.g., biological, chemical, or physical threats); and support community-schools initiatives and CDC's National Youth Media Campaign) as funds become available.

This program announcement covers four priority areas for State education agencies (SEA) and four priority areas for local education agencies (LEA). A SEA or LEA can apply for funding to address one or any combination of priority areas for which they are eligible.

SEA Priority 1: Youth Risk Behavior Survey (YRBS)

The purpose of SEA Priority 1: YRBS is to establish or strengthen systematic procedures to monitor critical health behaviors of youth within the state through implementation of the Youth Risk Behavior Survey (YRBS).

SEA Priority 2-A: Coordinated School Health Programs (CSHP) and Reduction of Chronic Disease Risks

The purpose of SEA Priority 2-A: CSHP and Reduction of Chronic Disease Risks is to build State education and health agency partnership and capacity to implement and coordinate school health programs across agencies and within schools. The expected outcome of this effort is to help schools reduce priority health risks among youth, especially those risks that contribute to chronic diseases. Initial funding is made available to specifically (1) reduce tobacco use and addiction, (2) improve eating patterns, (3) increase physical activity, and (4) reduce obesity among youth.

SEA Priority 2-B: State Demonstration Efforts (Asthma and Foodborne Illness)

The purpose of Priority 2-B: State Demonstration Efforts is to develop or implement exemplary State-level policies and programs, to prevent priority health problems among school-age youth as part of a coordinated school health program, including sharing successful techniques, strategies, and lessons learned with other interested states and cities. These demonstration programs will serve as State models that other states throughout the nation might modify and implement within their own jurisdictions. Initial funding is made available to implement demonstration programs to help schools reducing foodborne illness and increasing awareness of food safety, and reduce asthma episodes and asthma-related absences.

SEA Priority 3: HIV Prevention for School-Age Youth

The purpose of SEA Priority 3: HIV Prevention For School-age Youth is to strengthen state-level policies, programs, and support to help schools prevent sexual risk behaviors that result in HIV infection, especially among youth who are at highest risk.

SEA Priority 4: National Professional Development

The purpose of SEA Priority 4: National Professional Development is to improve State strategies to reduce health problems among youth by planning and delivering learning opportunities for other interested states.

LEA Priority 1: Youth Risk Behavior Survey (YRBS)

The purpose of LEA Priority 1: YRBS is to establish or strengthen systematic procedures to monitor critical health behaviors of youth within the local education agency area through implementation of the Youth Risk Behavior Survey (YRBS).

LEA Priority 2: HIV Prevention For School-Age Youth

The purpose of LEA Priority 2: HIV Prevention For School-age Youth is to strengthen local education agency policies, programs, and support to help schools prevent sexual risk behaviors that result in HIV infection, especially among youth who are at highest risk.

LEA Priority 3: Local Demonstration Efforts (Asthma)

The purpose of LEA Priority 3: Local Demonstration Efforts is to develop or implement exemplary local education agency policies and programs to implement demonstration programs to help schools reduce priority risk behaviors and health problems. Initial funding is available to help schools reduce asthma episodes and asthma-related absences as part of a coordinated school health program, including sharing successful techniques, strategies, and lessons learned with other interested LEAs.

LEA Priority 4: National Professional Development

The purpose of LEA Priority 4: National Professional Development is to improve school and community strategies to reduce health problems among youth by planning and delivering learning opportunities for other interested cities.

This program announcement is separated into three sections. Section I describes information about SEA Priorities, including Authority, Eligible Applicants, Availability of Funds, and Program Requirements. Section II describes information about LEA Priorities, including Eligible Applicants, Availability of Funds, and Program Requirements. Section III provides application guidance for both SEAs and LEAs, and includes information about Application Content, Submission and Deadline, Evaluation Criteria, Reporting Requirements, Other Additional Requirements, and Where to Obtain Additional Information.

Special Guidelines for Technical Assistance

Conference Call

Technical assistance will be available for potential applicants on three conference calls.

The first call will be held particularly for the SEAs located in American Samoa, Guam, Federated States of Micronesia, the Republic of the Marshall Islands, the Republic of Palau, and the Northern Mariana Islands on September 26, 2002 from 6 p.m. to 8 p.m. (Eastern Time).

The second call will be for eligible SEAs in the contiguous United States, Hawaii, Puerto Rico, and the Virgin Islands and will be held on September 27, 2002 from 3 p.m. to 5 p.m. (Eastern Time).

The third call will be eligible LEAs and will be held on October 1, 2002 from 12 p.m. to 2 p.m. (Eastern Time).

Potential applicants are requested to call in using only one telephone line. The conference can be accessed by calling 1-800-311-3437 or 404-639-3277, and entering access code 318989. The purpose of the conference call is to help potential applicants to:

1. Understand the scope and intent of the Program announcement.

2. Be familiar with the Public Health Services funding policies and application and review procedures.

Participation in this conference call is not mandatory. If you have problems accessing the conference call, please call 404-639-7550. Questions and answers from the conference call will be provided to all eligible applicants through e-mail communications.

Section I: State Education Agency (SEA)

B. Authority and Catalog of Federal Domestic Assistance

This program is authorized under Sections 301(a), 311(b) and (c), and 317(k)(2) [42 U.S.C. 241(a), 243(b) and (c), and 247b(k)(2)] of the Public Health Service Act, as amended. The Catalog of Federal Domestic Assistance number is 93.938.

C. Eligible Applicants

Eligible applicants for SEA Priorities 1, 2-A, 2-B, 3, and 4 are State education agencies (SEA) in the 50 states, American Samoa, Puerto Rico, the Virgin Islands, Guam, the Federated States of Micronesia, the Republic of the Marshall Islands, the Republic of Palau, and the Northern Mariana Islands.

SEA applicants may apply for any or all SEA Priorities, with the following clarification. Those SEAs applying for SEA Priority 2 can choose to apply for Priority 2-A alone or for both Priorities 2-A and 2-B. However, to be funded under Priority 2-B, the applicant must apply for and be approved for funding of Priority 2-A. To be awarded funds under SEA Priority 4, applicants must apply for and be funded under either Priority 2 or Priority 3 or both.

If additional funds become available, CDC SEAs funded under Priority 3 will be eligible to apply for funds under this announcement to promote abstinence and prevent other STDs and unplanned pregnancy, and SEAs funded under Priority 2 will be eligible to apply for funds to address other health risks and programs.

Note: Title 2 of the United States Code section 1611 states that an organization described in section 501(c)(4) of the Internal Revenue Code that engages in lobbying activities is not eligible to receive Federal funds constituting an award, grant or loan.

D. Availability of Funds

It is anticipated that a total of approximately $21,830,000 will be available in FY 2003 to fund up to 58 SEAs (including territorial education agencies) for Priorities 1, 2-A, 2-B, and 3. In addition, approximately $1,275,000 will be available for up to a total of three SEAs or LEAs for Priority 4.

SEA Priority 1: YRBS

Approximately $1,450,000 is expected to be available for SEA Priority 1. CDC expects to fund all eligible applicants that submit an acceptable application. Awards are expected to average $25,000.

SEA Priority 2-A: CSHP and Reduction of Chronic Disease Risks

Approximately $7,380,000 is expected to be available for SEA Priority 2-A to fund approximately 18 SEAs. CDC expects to award each SEA an average of approximately $410,000.

SEA Priority 2-B: State Demonstration Efforts (Asthma and Foodborne Illness)

Approximately $800,000 is expected to be available for SEA Priority 2-B to fund approximately 5 SEAs to implement demonstration programs to help schools reduce foodborne illnesses and improve student awareness of food safety. In addition, approximately $200,000 is expected to be available to fund 1 SEA to implement a demonstration program to help schools reduce asthma episodes and asthma-related absences. Awards will average $175,000 and range from approximately $150,000 to $200,000.

SEA Priority 3: HIV Prevention for School-Age Youth

Approximately $12,000,000 is expected to be available for SEA Priority 3. CDC expects to fund all eligible applicants that submit an acceptable application. Awards are expected to range from approximately $25,000 to $325,000. Award ranges will be as follows, based on 1999 estimated student enrollment data as reported by the U.S. Department of Education, National Center for Education Statistics, April 2000:

• SEAs in states with a student enrollment of 2,500,000 or more (California, New York and Texas) are eligible for an award range of approximately $225,000 to $325,000.

• SEAs in states with a student enrollment less than 2,500,000, but equal to or more than 1,500,000 (Florida, Illinois, Michigan, Ohio, and Pennsylvania) are eligible for an award range of approximately $220,000 to $320,000.

• SEAs in states with a student enrollment less than 1,500,000, but equal to or more than 500,000 (Alabama, Arizona, Colorado, Connecticut, Georgia, Indiana, Kentucky, Louisiana, Maryland, Massachusetts, Minnesota, Missouri, New Jersey, North Carolina, Oklahoma, Oregon, Puerto Rico, South Carolina, Tennessee, Virginia, Washington, and Wisconsin) are eligible for an award range of approximately $150,000 to $250,000.

• SEAs in states with a student enrollment less than 500,000, but equal to or more than 100,000 (Alaska, Arkansas, Delaware, Hawaii, Idaho, Iowa, Kansas, Maine, Mississippi, Montana, Nebraska, Nevada, New Hampshire, New Mexico, North Dakota, Rhode Island, South Dakota, Utah, Vermont, and West Virginia) are eligible for an award range of approximately $125,000 to $225,000.

• All other SEAs in states with a student enrollment less than 100,000 (American Samoa, the Federated States of Micronesia, Guam, the Northern Mariana Islands, the Republic of the Marshall Islands, the Republic of Palau, the Virgin Islands, and Wyoming) are eligible for an award range of approximately $25,000 to $100,000.

SEA Priority 4: National Professional Development

Approximately $1,275,000 is expected to be available for SEA Priority 4 to fund some combination of two to three SEAs or large city LEAs to implement national professional development. Awards will average $400,000 and will range from approximately $375,000 to $425,000.

It is expected that all awards will begin on or about March 1, 2003, with a 12-month budget period, within a project period of five years. Funding estimates may vary and are subject to change.

Continuation awards within an approved project period will be made on the basis of satisfactory progress as evidenced by required reports and the availability of funds.

Matching funds are not required for this program announcement.

Use of Funds

Cooperative agreement funds may be used to support personnel and to purchase equipment, supplies and services (including travel) directly related to program activities and consistent with the scope of the program announcement. Funds under this program announcement may not be used to conduct research projects, provide direct delivery of patient care or treatment services, or purchase or disseminate condoms. Although public health may have an assurance role in clinical testing and screening, funds are not to be used to provide clinical testing or screening services. Federal funds awarded under this program announcement may not be used to supplant State or local funds.

As part of the increased flexibility efforts, applicants are encouraged to maximize the public health benefit from the use of CDC funding within the approved budget line items to enhance the grantee's ability to achieve stated goals and objectives and to respond to changes in the field as they occur within the scope of the award. Recipients also have the ability to redirect up to 25 percent of the total approved budget to achieve stated goals and objectives within the scope of the award except from categories that require prior approval such as contracts, change in scope, and change in key personnel. A list of required prior approval actions will be included in the Notice of Cooperative Agreement Award.

SEA applicants are encouraged to identify and take advantage of opportunities, which will enhance the recipient's work with other education agency and health department programs in their State that address risk factors and health problems described in SEA Priorities. This may include cost sharing to support a shared position to implement activities such as surveillance, health communication, professional development, health resources development, and evaluation, or to implement programs that cross units/departments within the State education and health agencies. This may include, but is not limited to, joint planning activities, joint funding of complementary school health activities based on program recipient activities, coalitions, combined development and implementation of policy and program interventions, and other cost sharing activities that complement school and youth-based program priorities funded by other CDC units. SEAs may determine that the State health agency can effectively implement important school health policies and programs and may choose to provide fiscal support for State health agency implementation through an interagency agreement.

SEAs funded under priority 2A are expected to direct at least $100,000 to the State health agency to support staff positions and activities to promote coordination of school-related health programs within and across the health and education agencies.

E. Program Requirements

In conducting activities to achieve the purpose of this program, SEA recipients will be responsible for the activities under 1. Recipient Activities, and CDC will be responsible for the activities listed under 2. CDC Activities.

1. Recipient Activities for each SEA Priority are listed below. CDC has developed performance measures to evaluate recipients' progress in meeting the requirements. These performance measures are listed following the recipient activities listed for each priority.

SEA Priority 1—YRBS: Recipient Activities

a. Staffing: Identify staff position(s) in the education or health agency with responsibility and organizational authority for coordinating YRBS activities. The individual(s) identified should have knowledge needed for leadership and coordination of proposed activities, knowledge and understanding of school programs, and communication skills necessary to effectively promote and facilitate proposed plans and activities.

b. Establish and implement a plan for conducting a biennial YRBS among students in grades 9 thru 12 and disseminating YRBS results.

c. Partnerships: Establish or sustain effective partnerships with other State agencies, including the State health agency; non-governmental organizations; institutions of higher education; and others that can assist in implementing the YRBS, disseminating YRBS results, and utilizing results for program planning.

Performance will be measured by the extent to which:

• The State obtains weighted data representative of students in grades 9 thru 12 throughout the state, on a bi-annual basis and

• Decision makers, school districts, schools, health agencies, and other partners utilize YRBS data, in addition to other data, to improve policies and programs that will reduce health risk behaviors and improve the health of school-age youth.

SEA Priority 2-A—CSHP and Reduction of Chronic Disease

Risks: Recipient Activities

a. Staffing: Establish and maintain a full-time senior staff position in the State education agency (i.e., one FTE) and a full-time senior staff position in the State health agency (i.e., one FTE), with expertise, experience, and full-time responsibility and organizational authority for building each agency's capacity to implement and coordinate effective school health programs. In addition, the State education agency should establish or identify an appropriate full-time staff position (i.e., one FTE), in the education agency with experience, expertise, and full responsibility and organizational authority for coordinating programs intended to reduce tobacco use and addiction, improve eating patterns, increase physical activity, and reduce obesity among youth. The individuals identified for these three positions should have necessary credentials (e.g., licensure or certification), training, and experience needed for leadership and coordination of the proposed activities; knowledge and experience in working with school and public health personnel, programs, and administrative procedures; and communication skills that would enable them to serve as a liaison with partners in health, education, the community, and with other decision makers at the local, State, and national levels.

b. State Agency Collaboration and Planning: Strengthen the partnership between the State education and State health agencies that will result in an Interagency Plan that identifies complementary responsibilities and support functions to improve the health and educational achievement of students through CSHP in the State's schools. Efforts to address tobacco use, dietary patterns that result in disease and obesity, physical inactivity, HIV, asthma, foodborne illnesses, and other health priorities should be coordinated with other State health department programs. The Intra-agency Plan should address effective policies and programs; resources; financial sustainability; technical assistance; professional development; partnerships and linkages; health communications and marketing; and assessment and evaluation.

c. Partnerships and Planning: Develop and implement a State plan that builds a broader private and public partnership for reducing priority risk behaviors, particularly tobacco use and addiction, improving eating patterns, increasing physical activity, and reducing obesity among youth in schools. The plan should be developed in collaboration with the State health agency, relevant non-governmental organizations, institutions of higher education, teachers and parents, and other coalitions or groups. Priorities established as part of the plan should be based on State surveillance and other monitoring and evaluation data. This plan should address efforts to help schools reduce foodborne illnesses, improve student awareness of food safety, and reduce asthma episodes and asthma-related absences (SEA Priority 2-B), and help schools prevent sexual risk behaviors that results in HIV infection (SEA priority 3), if theses are State or local priorities and CDC funds are provided to support theses priorities. The State plan should:

1. Incorporate the support functions and responsibilities of the State education and health agency's Interagency Plan.

2. Identify the complementary roles and responsibilities of State and local partners, specifying the contributions (e.g., funds, technical assistance, professional development, and materials development) of partners in helping schools reduce priority health risks, including tobacco use and addiction, physical inactivity, and eating patterns that result in obesity and disease.

3. Emphasize implementation of effective policies, environmental changes, and educational strategies consistent with CDC's Guidelines for School and Community Programs to Promote Lifelong Physical Activity Among Young People, Guidelines for School Health Programs to Promote Lifelong Healthy Eating, Guidelines for School Health Programs to Prevent Tobacco Use and Addiction, and other relevant CDC guidance documents that target other youth risk behaviors, and the use of school health assessment data.

4. Build on a theoretical approach based on proven principles for prevention.

5. Leverage resources and avoid duplication at the state and local levels.

d. State Systems To Support School District Implementation and Evaluation: Develop and implement a plan for providing professional development, consultation, technical assistance, evaluation, and resource development in support of school districts or schools to assist them in assessing, planning, and coordinating school health programs and implementing strategies to reduce priority health risks, including tobacco use and addiction, physical inactivity, and eating patterns that result in obesity and disease.

e. Implement strategies to reduce disparities among populations that may be disproportionately affected by health risks and problems, especially among communities of color (as defined in CDC's HIV Prevention Strategic Plan Through 2005).

f. Identify proponents and advocates among decision makers and the public, inform and support them in their efforts to promote the role of schools in achieving priority health outcomes and improving academic success; including sharing and disseminating accurate information about effective programs and materials that address health priorities with decision-makers, other leaders including school personnel, parents, students, and other stakeholders.

g. Evaluate State-level school health capacity-building efforts and the implementation and effectiveness of strategies to reduce priority health risks, especially tobacco use and addiction and physical inactivity and eating patterns that result in obesity and disease, for the purposes of programmatic improvement and long range planning. Evaluation plans should include systematic procedures to monitor school policies and programs intended to promote health enhancing behaviors among youth.

h. Participate in at least two national, CDC or DASH-sponsored training workshops or conferences each budget year of the project period for the purpose of strengthening State-level infrastructure to support and coordinate school health programs and improving education to prevent leading causes of disease, disability, and death among youth.

Performance will be measured by the extent to which the State education and health agencies provide support to schools and school districts such that schools:

• Implement effective policies, environmental changes, and educational strategies to reduce tobacco use and addiction, physical inactivity, and eating patterns that result in obesity and disease among youth.

• Implement strategies to reduce health disparities among sub-populations that may be disproportionally affected by health risks and problems.

• Integrate effective school-based policies, programs and strategies to reduce priority health risks, especially, tobacco use and addiction, physical inactivity, and unhealthy eating patterns with community-based strategies, while building a sustainable local resource and funding base.

SEA Priority 2-B—State Demonstration Efforts (Asthma and Foodborne Illness)

Recipient Activities

a. Staffing: Identify staff position(s) in the education agency with full-time responsibility and organizational authority for coordinating activities (reducing asthma-related illnesses or asthma-related absences and/or reducing foodborne illnesses) proposed under this priority. The individual(s) identified should have credentials, training, and experience needed for leadership and coordination of proposed activities; knowledge and experience in working with schools and public health personnel; and communication skills necessary to effectively promote and facilitate proposed plans and activities.

b. Partnerships and Planning: Develop and implement a state plan that builds a broader private and public partnership for reducing asthma-related illnesses or asthma-related absences and/or reducing foodborne illnesses in schools and improving student awareness of food safety. The plan should be developed in collaboration with the State Health Agency, the State agricultural agency's cooperative extension services (foodborne illnesses) relevant non-governmental organizations, institutions of higher education, teachers and parents, and other coalitions or groups. Priorities established as part of the plan should be based on State surveillance and other monitoring and evaluation data. (This plan should also address efforts to help schools reduce tobacco use and addiction, improve eating patterns, increase physical activity, and reduce obesity among youth in schools (SEA Priority 2-A) and help schools prevent sexual risk behaviors that result in HIV infection (SEA Priority 3), if CDC funds are also provided to support these priorities).

The plan should:

1. Incorporate the support functions and responsibilities of the State education and health agency's Interagency Plan for coordinating school health programs.

2. Identify the complementary roles and responsibilities of State and local partners, specifying the contributions (e.g., funds, technical assistance, professional development, materials development) of partners to reduce asthma-related illnesses or asthma-related absences and/or reducing foodborne illnesses in schools and improving student awareness of food safety.

3. Emphasize implementation of effective policies, environmental changes, and educational strategies consistent with CDC guidance related to these priorities.

4. Leverage resources and avoid duplication at the state and local levels.

c. Implement strategies to reduce disparities among populations that may be disproportionately affected by these relevant health risks and problems, especially among communities of color (as defined in CDC's HIV Prevention Strategic Plan Through 2005).

d. Identify proponents and advocates among decision makers and the public, and inform and support them in their efforts to promote the role of schools in reducing asthma-related illnesses or asthma-related absences and/or reducing foodborne illnesses in schools and improving student awareness of food safety, including sharing and disseminating accurate information about effective programs and materials that address these priorities with decision-makers, other leaders, including school personnel, parents, students, other stakeholders in the state as well as interested education and health agencies in the nation.

e. Evaluate State-level school health capacity building efforts and the effectiveness of strategies to reduce asthma-related illnesses or asthma-related absences and/or reduce foodborne illnesses in schools and improve student awareness of food safety for the purposes of programmatic improvement and long range planning.

Performance will be measured by the extent to which the State education agency and partners:

• Translate and communicate successful and effective interventions for adoption by other state education and health agencies, school districts, schools, and communities and

• Provide support to schools and school districts to do the following:

(1) Implement effective policies, environmental changes, and educational strategies to reduce asthma-related illnesses or asthma-related absences and/or reducing foodborne illnesses in schools and improving student awareness of food safety.

(2) Implement strategies to reduce disparities among populations that may be disproportionally affected by these priority health risks and problems.

SEA Priority 3—HIV Prevention for School-Age Youth

Recipient Activities

a. Staffing: Establish and maintain a staff position that has full-time responsibility and organizational authority for HIV prevention activities within the agency. The individual in this position should have necessary credentials (e.g., licensure or certification), training, and experience needed for leadership, coordination, and implementation of HIV prevention activities; knowledge and experience working in school settings and with sub-populations of youth that might be disproportionately affected by HIV infection; and communication skills that enable the staff person to serve as a liaison with partners in health, education, and the community.

b. Partnerships and Program Planning: Develop and implement a plan that builds on the broader state and community plans for strengthening HIV prevention in schools. The plan should be developed in collaboration with the State health agency HIV prevention program, the HIV community planning group, abstinence groups, schools, parents, students, and other coalitions or groups that are implementing efforts to prevent HIV infection among youth. Priorities established as a part of the plan should be based on state surveillance and other monitoring and evaluation data, reflective of HIV trends, and complement priorities identified by the State HIV community planning group. The plan should:

1. Identify the complementary roles and responsibilities of State and local partners, specifying the contributions (e.g., funds, technical assistance, professional development, and materials development) of partners (especially the State health agency HIV prevention program).

2. Emphasize implementation of effective policies, programs, curricula frameworks, standards, resources and support in school that are:

(a) Developmentally and culturally appropriate.

(b) Medically and scientifically accurate.

(c) Consistent with scientifically researched evidence of effectiveness.

(d) Built on a theoretical approach based on proven principles for prevention.

(e) Consistent with the principles of CDC's Guidelines for Effective School Health Education to Prevent the Spread of AIDS and other CDC guidance documents.

(f) Integrate HIV prevention efforts with efforts to prevent other STDs and/or unintended pregnancy and efforts to reduce alcohol and other drug use.

(g) Complement existing intra-agency policy-making processes, state school board policy, and school and community standards and values.

(h) Leverage resources and avoid duplication at the state and local levels.

c. Implement strategies to reduce disparities among populations that may be disproportionately affected by HIV infection, especially among communities of color (as defined in CDC's HIV Prevention Strategic Plan Through 2005).

d. State systems to support school district implementation and evaluation: Develop and implement a plan for providing professional development, consultation, technical assistance, resource development, and evaluation to school districts and schools. Assist them in assessing, planning, and implementing effective HIV prevention to youth most at risk for HIV infection, including youth in grades 7 thru 12, youth with special needs, youth in high-risk situations, youth who are both in and out of school, youth of color, and sexual minority youth.

e. HIV Materials Review and Medical Accuracy: Establish and maintain an HIV materials review panel to review all written materials, audiovisual materials, pictorials, questionnaires, surveillance instruments, proposed group educational sessions, educational curricula, and like materials, including website materials (see Attachment IV, AR-5, for guidance related to HIV Program Review Panel Requirements). The review requirement are to ensure that funded materials, sessions, and activities include accurate information about the harmful effects of promiscuous sexual activity and intravenous substance abuse, and the benefits of abstaining from such activities. Ensure that funded materials, sessions, and activities do not provide education or information designed to promote or encourage, directly, homosexual or heterosexual sexual activity or intravenous substance abuse. Ensure that educational sessions do not include activities in which attendees participate in sexually suggestive physical contact or actual sexual practices; and that materials provide accurate information about various means to reduce an individual's risk of exposure to, or to transmission of, the etiologic agent for AIDS. In addition, establish mechanisms to ensure that all mass produced education materials that are specifically designed to address STDs including Human Papilloma Virus (HPV) shall contain medically accurate information regarding the effectiveness or lack of effectiveness of condoms in preventing the STD the materials are designed to address.

f. Identify proponents and advocates among decision makers and the public, and inform and support them in their efforts to promote the role of schools in achieving HIV prevention outcomes, including sharing and disseminating accurate information about effective programs and materials that address HIV prevention priorities with decision-makers, other leaders, including school personnel, parents, students and other stakeholders.

g. Involve youth as appropriate in planning, delivering, and evaluating HIV prevention programs.

h. Evaluate State-level capacity building efforts and evaluate the implementation and effectiveness of strategies to reduce risks for HIV infection among youth in schools for the purposes of programmatic improvement and long range planning. Evaluations should include systematic procedures to monitor school policies and programs intended to promote health enhancing behaviors among youth.

i. Participate in at least two national, CDC or DASH-sponsored training workshops or conferences each budget year of the project period for the purpose of improving HIV prevention and reducing other important health risks that affect young persons.

Performance will be measured by the extent to which the state education agency and partners provide support to schools and school districts to:

• Implement effective policies and educational strategies to reduce risk behaviors that lead to HIV infection among youth.

• Implement strategies to reduce disparities among sub-populations of youth disproportionally affected by HIV infection and other health problems related to sexual risk behaviors.

• Integrate effective school-based policies, programs and strategies to reduce health risks that lead to HIV infection with community-based strategies, while building a sustainable local resource and funding base.

SEA Priority 4—National Professional Development

Recipient Activities

a. Staffing: Establish and maintain a full-time staff position (i.e., one FTE) in the education agency with full-time responsibility and organizational authority for coordinating professional development activities. The individual selected for this position should have specific credentials, training, and experience needed for leadership and coordination of proposed activities, knowledge and experience in working with school and public health personnel, and communication skills to effectively promote and facilitate professional development events.

b. Collaborate with other SEAs and/or LEAs that receive funding under Priority 4 in a Professional Development Consortium (PDC). The purpose of the PDC will be to share resources and coordinate activities.

c. Develop and implement a professional development plan that will improve State and local planning and implementation of coordinated school health programs and strategies that will reduce priority health risk behaviors among youth. The professional development plan should:

(1) Emphasize partnerships among education agencies, health agencies, and others.

(2) Be based on stated needs of DASH-funded education agencies and their project partners.

(3) Promote professional development events that focus on school health topics and priorities for representatives from other LEAs, SEAs, health agencies, and other interested individuals or groups.

d. Pay costs associated with coordination of events, including travel and per diem for participants and presenters for program-related professional development events.

e. In partnership with the consortium, provide at least two to three events within a 12-month budget period.

f. Evaluate program activities and use evaluation results for programmatic improvement and long range planning.

g. Participate in at least two national, DASH-sponsored professional development consortium meetings each budget year of the project period for the purpose of planning and coordinating SEA and LEA professional development events.

Performance will be measured by the extent to which professional development participants have improved plans and prevention strategies consistent with the increased knowledge and skills acquired from the professional development events.

2. Centers for Disease Control and Prevention's Activities

a. Provide national YRBS data for comparison with state YRBS data.

b. Provide public health information, training, and technical assistance related to program planning, and implementation, surveillance, professional development, and evaluation; assessment of program objectives; and dissemination of theoretical approaches, proven principles for prevention, effective and successful strategies, experiences, and evaluation results.

c. Collaborate with SEAs, LEAs, and national organizations in planning and carrying out relevant national strategies to improve school health programs and prevent important health risk behaviors.

d. Collaborate with appropriate partners to develop and disseminate recommendations for policy and program interventions, together with recommendations for assessment.

e. Organize and convene meetings of national, State, and local organizations and agencies to address issues and activities related to strengthening education to prevent important health risk behaviors and problems and integrating such education into existing school health programs.

f. Organize and convene professional development consortium meetings to jointly plan and deliver professional development and learning opportunities for DASH-funded national non-governmental and state and local grantees.

SEA Applicants can skip Section II and proceed to Section III.

Section II: Large City Local Education Agency (LEA)

B. Eligible Applicants

Eligible applicants for LEA Priorities 1, 2, 3, and 4 will be the 20 urban school districts with an enrollment of 80,000 students or more and a percentage of minority students of 50 percent or greater, as reported in the U.S. Department of Education, National Center for Education Statistics, Local Education Agency Universe Survey, 1999-2000. These districts include the New York City Public Schools (New York, NY); Los Angeles Unified Schools (Los Angeles, CA); City of Chicago School District (Chicago, IL); Dade County School District (Miami, FL); Broward County School District (Fort Lauderdale, FL); Houston Independent School District (Houston, TX); Philadelphia City School District (Philadelphia, PA); Detroit City School District (Detroit, MI); Dallas Independent School District (Dallas, TX); Orange County School District (Orlando, FL); San Diego City Unified Schools (San Diego, CA); Prince George's County Public Schools (Upper Marlboro, MD); Memphis City School District (Memphis, TN); Baltimore City Public School System (Baltimore, MD); Charlotte-Mecklenburg Schools (Charlotte, NC); Milwaukee School District (Milwaukee, WI); DeKalb County School District (Decatur, GA); Long Beach Unified Schools (Long Beach, CA); Albuquerque Public Schools (Albuquerque, NM); and Orleans Parish School Board (New Orleans, LA).

Eligible for LEA Priorities 1,2, and 4 will be the largest urban school districts in 11 additional metropolitan areas that have reported 6,600 cases or more of AIDS to CDC as of December 31, 2000. These LEAs include Atlanta City Schools (Atlanta, GA); Boston School District (Boston, MA); District of Columbia Public Schools (Washington, D.C.); Hillsborough County School District (Tampa, FL); Jersey City Schools (Jersey City, NJ); Newark City Schools (Newark, NJ); Oakland Unified Schools (Oakland, CA); Palm Beach County School District (West Palm Beach, FL); San Bernardino City Unified Schools (San Bernardino, CA); San Francisco Unified Schools (San Francisco, CA); and Seattle Schools (Seattle, WA). The LEAs listed in this paragraph are not eligible to apply for LEA Priority 3.

LEA applicants can apply separately for Priority 1, Priority 2, Priority 3, or Priority 4 or any combination of priorities for which they are eligible with the following exception. To be awarded funds under LEA Priority 4, applicants must apply and be funded under Priority 2.

If additional funds become available, LEAs eligible under Priority 2 will be eligible to apply for additional funds to promote abstinence and prevent STD prevention and pregnancy prevention, and LEAs eligible under Priority 3 will be eligible to apply for additional funds to address other priority health problems.

Note: Title 2 of the United States Code section 1611 states that an organization described in section 501(c)(4) of the Internal Revenue Code that engages in lobbying activities is not eligible to receive Federal funds constituting an award, grant, or loan.

C. Availability of Funds

It is anticipated that a total of approximately $6,625,000 will be available in FY 2003 to fund LEA Priorities 1, 2, and 3. In addition, approximately $1,275,000 will be available for up to a total of 3 SEAs or LEAs for Priority 4.

LEA Priority 1: YRBS

Approximately $625,000 is available for LEA Priority 1 to fund approximately 25 local education agencies. It is expected that the average award will be $25,000.

LEA Priority 2: HIV Prevention for School-Age Youth

Approximately $5,000,000 is expected to be available to support approximately 20 large city LEAs for Priority 2. Awards to LEAs are expected to range from $100,000 to $350,000. Funds will be awarded as follows to large city LEAs using student enrollment data as reported in the U.S. Department of Education, National Center for Education Statistics, Local Education Agency Universe Survey, 1999-2000:

• LEAs with a student enrollment of more than 1,000,000 (New York City Public Schools) are eligible for an award range of approximately $225,000 to $350,000.

• LEAs with a student enrollment of less than 1,000,000, but equal to more than 350,000 (City of Chicago School District, Dade County School District and Los Angeles Unified Schools) are eligible for an award range of approximately $200,000 to $325,000.

• LEAs with a student enrollment of less than 350,000, but equal to or more than 200,000 (Broward County School District, Houston Independent School District, and Philadelphia City School District) are eligible for an award range of approximately $175,000 to $300,000.

• LEAs with a student enrollment of less than 200,000, but equal to or more than 100,000(Baltimore City Public School System, Charlotte-Mecklenburg Schools, Dallas Independent School District, Detroit City School District, Hillsborough County School District, Memphis City School District, Orange County School District, Palm Beach County School District, Prince George's County Public Schools, and San Diego City Unified Schools) are eligible for an award range of approximately $150,000 to $275,000.

• LEAs with a student enrollment of less than 100,000 (Albuquerque Public Schools, Atlanta City Schools, Boston School District, DeKalb County School District, District of Columbia Public Schools, Jersey City Schools, Long Beach Unified Schools, Milwaukee School District, Newark City Schools, Oakland Unified Schools, Orleans Parish School Board, San Bernardino City Unified Schools, San Francisco Unified Schools, and Seattle Schools) are eligible for an award range of approximately $125,000 to $250,000.

LEA Priority 3: Local Demonstration Efforts (Asthma)

Approximately $1,000,000 is expected to be available for LEA Priority 3 to fund approximately six large city LEAs to implement a demonstration program to help schools reduce asthma episodes and asthma-related absences. Awards will average $175,000 with a range from approximately $150,000 to $200,000.

LEA Priority 4: National Professional Development

Approximately $1,275,000 is expected to be available for LEA Priority 4 to fund some combination of two to three SEA or large city LEA projects to implement national professional development strategies. Awards will average $400,000 and range from approximately $375,000 to $425,000.

It is expected that all awards will begin on or about March 1, 2003, with a 12-month budget period, within a project period of five years. Funding estimates may vary and are subject to change.

Continuation awards within an approved project period will be made on the basis of satisfactory progress as evidenced by required reports and the availability of funds.

Use of Funds

Cooperative agreement funds may be used to support personnel, purchase equipment, supplies, services and travel directly related to program activities and consistent with the scope of the cooperative agreement. Funds under this program announcement may not be used to conduct research projects, provide direct delivery of patient care or treatment services, and purchase or disseminate condoms.

Although public health may have an assurance role in clinical testing and screening, funds are not to be used to provide clinical testing or screening services. Federal funds awarded under this program announcement may not be used to supplant State or local funds.

As part of the increased flexibility efforts, applicants are encouraged to maximize the public health benefit from the use of CDC funding within the approved budget line items to enhance the grantee's ability to achieve stated goals and objectives and to respond to changes in the field as they occur within the scope of the award. Recipients also have the ability to redirect up to 25 percent of the total approved budget to achieve stated goals and objectives within the scope of the award, except from categories that require prior approval such as contracts, change in scope, and change in key personnel. A list of required prior approval actions will be included in the Notice of Grant Award.

LEA applicants are encouraged to identify and take advantage of opportunities, which will also enhance the recipient's work with other local education agency and health department programs and community programs that address risk factors and health problems described in LEA Priorities. This may include cost sharing to support a shared position to implement activities such as surveillance, health communication, professional development, health resources development, and evaluation or to implement programs that cross units/departments within the local education and health agency. This may include, but is not limited to, joint planning activities, joint funding of complementary school health activities based on program recipient activities, coalition or alliances, combined development and implementation of policy and program interventions, and other cost sharing activities that complement school and youth-based program priorities funded by other CDC units.

D. Program Requirements

In conducting activities to achieve the purpose of this program, the large city LEA recipients will be responsible for the activities under 1. Recipient Activities, and CDC will be responsible for the activities listed under 2. CDC Activities.

1. Recipient Activities for each LEA Priority are listed below. CDC has developed performance measures to evaluate recipients' progress in meeting the requirements. These performance measures are listed following the recipient activities listed for each priority.

LEA Priority 1—YRBS: Recipient Activities

a. Staffing: Identify staff position(s) in the education or health agency with responsibility and organizational authority for coordinating YRBS activities. The individual(s) identified should have knowledge needed for leadership and coordination of proposed activities, knowledge and understanding of school programs, and communication skills necessary to effectively promote and facilitate proposed plans and activities.

b. Establish and implement a plan for conducting a biennial YRBS among students in grades 9 thru 12 and disseminating YRBS results.

c. Partnerships: Establish or sustain effective partnerships with other local agencies, including the state or local health agency; non-governmental organizations, institutions of higher education, and others that can assist in implementing the YRBS, disseminating YRBS results, and utilizing results for program planning.

Performance will be measured by the extent to which:

• The district or community obtains weighted data representative of students in grades 9 thru 12 throughout the school district, on a biennial basis.

• Decision makers, schools, health agencies, and other partners utilize YRBS data; in addition to other data, to improve policies and programs that will reduce health risk behaviors and improve the health of school-age youth.

LEA Priority 2—HIV Prevention for School-Age Youth

Recipient Activities

a. Staffing: Establish and maintain a staff position that has full-time responsibility and organizational authority for HIV prevention activities within the agency. The individual in this position should have specific credentials, training and experience needed for leadership, coordination, and implementation of HIV prevention activities; knowledge and experience working in school settings and with sub-populations of youth that might be disproportionately affected by HIV infection; and communication skills that enable the staff person to serve as a liaison with partners in health, education, and the community.

b. Partnerships and Program Planning: Develop and implement a plan that builds on the broader state and community plans for strengthening HIV prevention in schools. The plan should be developed in collaboration with the State education agency HIV prevention program, State health agency HIV prevention program, relevant HIV community planning groups, abstinence groups, schools, parents, students, and other coalitions or groups that are implementing efforts to prevent HIV infection among youth. Priorities established as a part of the plan should be based on state surveillance and other monitoring and evaluation data; should be reflective of HIV trends, and complement priorities identified by the State HIV community planning group. The plan should:

1. Identify the complementary roles and responsibilities of State and local partners, specifying the contributions (e.g., funds, technical assistance, professional development, and materials development) of partners (especially the local health agency HIV prevention program).

2. Emphasize implementation of effective policies, programs, curricula frameworks, standards, resources and support in school that are:

(a) Developmentally and culturally appropriate,

(b) Medically and scientifically accurate,

(c) consistent with scientifically researched evidence of effectiveness,

(d) Build on a theoretical approach based on proven principles for prevention,

(e) Consistent with the principles of CDC's Guidelines for Effective School Health Education to Prevent the Spread of AIDS,

(f) Integrate HIV prevention efforts with efforts to prevent other STDs and/or unintended pregnancy and efforts to reduce alcohol and other drug use,

(g) Complements existing intra-agency policy-making processes, local school board policy, and school and community standards and values, and

(h) Leverage resources and avoid duplication at the local level.

c. Implement strategies to reduce disparities among populations that may be disproportionately affected by HIV infection, especially among communities of color (as defined in CDC's HIV Prevention Strategic Plan Through 2005).

d. Support Implementation and Evaluation: Develop and implement a plan for providing professional development, consultation, technical assistance, resource development, and evaluation to schools to assist them in assessing, planning, and implementing effective HIV prevention to youth most at risk for HIV infection, including youth in grades 7 thru 12, youth with special needs, youth in high-risk situations, youth who are both in and out of school, youth of color, and sexual minority youth.

e. HIV Materials Review and Medical Accuracy: Establish and maintain an HIV materials review panel to review all written materials, audiovisual materials, pictorials, questionnaires, survey instruments, proposed group educational sessions, educational curricula and like materials, including website materials (see Attachment IV, AR-5, for guidance related to HIV Program Review Panel Requirements). Ensure that funded materials, sessions, and activities include accurate information about the harmful effects of promiscuous sexual activity and intravenous substance abuse, and the benefits of abstaining from such activities. Ensure that funded materials, sessions, and activities do not provide education or information designed to promote or encourage, directly, homosexual or heterosexual sexual activity or intravenous substance abuse; that educational sessions do not include activities in which attendees participate in sexually suggestive physical contact or actual sexual practices; and that materials provide accurate information about various means to reduce an individual's risk of exposure to, or to transmission of, the etiologic agent for AIDS. In addition, establish mechanisms to ensure that all mass produced education materials that are specifically designed to address STDs including HPV shall contain medically accurate information regarding the effectiveness or lack of effectiveness of condoms in preventing the STD the materials are designed to address.

f. Identify proponents and advocates among decision makers and the public, inform and support them in their efforts to promote the role of schools in achieving HIV prevention outcomes, including sharing and disseminating accurate information about effective programs and materials that address HIV prevention priorities with decision-makers, other leaders, including school personnel, parents, students and other stakeholders.

g. Involve youth as appropriate in planning, delivering, and evaluating HIV prevention programs.

h. Evaluate the implementation and effectiveness of strategies to reduce risks for HIV infection among youth in schools for the purposes of programmatic improvement and long range planning. Evaluations should include systematic procedures to monitor school policies and programs intended to promote health enhancing behaviors among youth.

i. Participate in at least two national, CDC or DASH-sponsored training workshops or conferences each budget year of the project period for the purpose of improving HIV prevention and reducing other important health risks that affect young persons.

Performance will be measured by the extent to which schools:

• Implement effective policies and educational strategies to reduce risk behaviors that lead to HIV infection among youth.

• Implement strategies to reduce disparities among sub-populations of youth disproportionally affected by HIV infection and other health problems related to sexual risk behaviors.

• Integrate effective school-based policies, programs and strategies to reduce health risks that lead to HIV infection with community-based strategies, while building a sustainable local resource and funding base.

LEA Priority 3—Local Demonstration Efforts (Asthma)

Recipient Activities

a. Staffing: Identify or establish a position in the local education agency with full-time responsibility and organizational authority for management and supervision of proposed activities. The individual identified should have the necessary credentials (e.g., licensure or certification), training, and experience needed for leadership and coordination of proposed activities; knowledge and experience in working with school and public health personnel; and communication skills necessary to effectively promote and facilitate proposed plans and activities.

b. Monitor local school district and relevant state policies and programs related to funded priorities and make recommendations that will help schools establish action plans, support laws, regulations for access to services in schools, assist children and their families with information, and encourage schools to reduce environmental factors that contribute to the priority health problem(s) to be addressed.

c. Partnerships and Planning: Develop and implement a district-wide plan that builds a broader private and public partnership for reducing asthma-related illnesses or asthma-related absences as part of a coordinated school health program. The plan should be developed in collaboration with the State and local health agency, relevant non-governmental organizations, institutions of higher education, teachers, parents, and other coalitions or groups. Established priorities should be based on surveillance, other monitoring and evaluation data. The plan should:

1. Identify the complementary roles and responsibilities of state and local partners, specifying the contributions (e.g., funds, technical assistance, professional development, materials development) of partners.

2. Emphasize implementation of effective policies, environmental changes, and educational strategies consistent with CDC's Strategies for Coordinated School Asthma Programs.

3. Leverage resources and avoid duplication at the local levels.

d. Implement strategies to reduce disparities among populations that may be disproportionately affected by health risks and problems, especially among communities of color (as defined in CDC's HIV Prevention Strategic Plan Through 2005).

e. Identify proponents and advocates among decision makers, the public, inform and support them in their efforts to promote the role of schools in reducing asthma-related illnesses or asthma-related absences in schools; including sharing and disseminating accurate information about effective programs, materials that address these priorities with decision-makers, other leaders, school personnel, parents, students, other stakeholders education and health agencies in the nation.

(f) Evaluate the effectiveness of strategies to reduce asthma-related illnesses or asthma-related absences in schools for the purposes of programmatic improvement and long range planning.

Performance will be measured by the extent to which the local education agencies:

• Implement effective policies, environmental changes, and educational strategies to reduce asthma-related illnesses or asthma-related absences.

• Implement strategies to reduce disparities among populations that may be disproportionally affected by these priority health risks and problems, especially asthma-related illnesses and absences.

• Translate and communicate successful and effective interventions for adoption by other health agencies, school districts, schools, and communities.

LEA Priority 4—National Professional Development

Recipient Activities

a. Staffing: Establish and maintain a full-time staff position (i.e., one FTE) in the education agency with full-time responsibility and organizational authority for coordinating professional development activities. The individual selected for this position should have specific credentials, training, experience needed for leadership, coordination of proposed activities, knowledge, and experience in working with schools and public health personnel, and communication skills to effectively promote and facilitate professional development events.

b. Collaborate with other SEAs and/or LEAs that receive funding under Priority 4 in a PDC. The purpose of the PDC will be to share resources and coordinate activities.

c. Develop and implement a professional development plan that will improve state and local planning and implementation of coordinated school health programs and strategies that will reduce priority health risk behaviors among youth. The professional development plan should:

(1) Emphasize partnerships among education agencies, health agencies, and others.

(2) Be based on stated needs of DASH-funded education agencies and their project partners.

(3) Promote professional development events that focus on school health topics and priorities for representatives from other LEAs, SEAs, health agencies, and other interested individuals or groups.

d. Pay costs associated with coordination of events, including travel and per diem for participants and presenters for program-related professional development events.

e. In partnership with the consortium, provide at least two to three events within a 12-month budget period.

f. Evaluate program activities and use evaluation results for programmatic improvement and long range planning.

g. Participate in at least two national, DASH-sponsored professional development consortium meetings each budget year, for planning and coordinating SEA and LEA professional development events.

Performance will be measured by the extent to which professional development participants have improved plans and prevention strategies consistent with the increased knowledge and skills acquired from the professional development events.

2. Centers for Disease Control and Prevention Activities

a. Provide national YRBS data for comparison with district YRBS data.

b. Provide public health information, training, technical assistance related to program planning, implementation, surveillance, professional development, evaluation, assessment of program objectives, dissemination of theoretical approaches, proven principles for prevention, effective and successful strategies, experiences, and evaluation results.

c. Collaborate with SEAs, LEAs, and national organizations in planning and carrying out relevant national strategies to improve school health programs and prevent important health risk behaviors.

d. Together with recommendations for assessment, collaborate with appropriate partners to develop and disseminate recommendations for policy and program interventions.

e. Organize and convene meetings of national, State, local organizations and agencies to address issues and activities related to strengthening education to prevent important health risk behaviors, problems, and integrate education into existing school health programs.

f. Organize and convene professional development consortium meetings to jointly plan and deliver professional development and other opportunities to promote learning for DASH-funded national non-governmental and state and local grantees.

Section III: Guidance for SEA and LEA Applications (All Priorities)

E. Content

Letter of Intent (LOI)

An LOI is requested prior to application for this program. The LOI should be no more than two pages, single-spaced, printed on one side, with one-inch margins, and unreduced fonts. The LOI will be used only to confirm eligibility and establish CDC review panel processes. The information contained within the LOI will not be reviewed or used as part of the application review process. The LOI should include the name, address, telephone, email address, and fax number of the agency's primary contact for writing and submitting the application. Identify the SEA or LEA priorities for which you are applying. The LOI should be signed by the Superintendent or Commissioner of Education. For a State applying for SEA Priority 2, signatures of officials from both the state's education and health agencies should be included.

Applications

Use the information in this section as well as the relevant program requirements in Sections I and II to develop the application content. Your application will be evaluated on the criteria described in this section, so it is important to follow these criteria when describing your program plan. The application should include only one Background and Need Section, Capacity Section, and Program Evaluation Section that addresses to all priorities for which you are applying. However, you should include separate work plans, staffing plans, and budgets for each priority area for which you are applying. The narrative should be printed on one side, with one inch margins, and unreduced fonts.

Executive Summary

Your application should begin with a clear, concise three to four page summary to include the: (1) Need for proposed programs; (2) number and characteristics of youth and schools to be served; (3) outcomes that will be expected through the use of these funds; and (4) the total and subtotal (by SEA or LEA Priority) amounts of Federal funding requested.

1. Background and Need (Not More Than Eight Pages)

a. Provide evidence of health risks and problems among youth in your agency's jurisdiction related to the priorities for which you are applying. Include an analysis of disparities, especially among communities of color.

b. Describe the current types and levels of efforts being directed to improve school health programs and relevant priorities in your area (including information about the number of schools that provide relevant programs and the number of youth served by these programs).

c. Describe specific needs suggested from the data presented above that can be addressed by activities proposed in your work plan.

d. (SEA Priority 4 and LEA Priority 4 applicants only) Using research from journals, surveys, and other assessment or observational data, describe your understanding of the professional development needs of other seas or LEAVES relative to HIV prevention, school health, or reaching young persons in high-risk situations both in school and out of school.

2. Capacity (Not More Than Ten Pages)

a. (All applicants) Describe your agency's existing organizational structure and how it supports programs intended to improve the health of youth.

b. (SEA applicants only) Describe the organizational structure of the state health agency and how that structure supports the coordination of the existing school health program and priority areas for which you are applying.

c. (SEA applicants only) Describe your agency's current relationship with each relevant unit within the state health agency. Defining each unit's appropriate role and contributions toward coordinating the implementation of school health programs and priority areas for which you are applying.

d. (SEA Priority 2 applicants only) Describe any activities conducted to assess the current status of the existing State capacity to support school health and reduce health risks that affect young persons. If an assessment was completed, describe any infrastructure development activities that have been planned or implemented based on assessment results.

e. (All applicants) Describe your agency's existing capacity, as well as the capacity of other significant partners, including efforts to:

1. Monitor critical health behaviors and outcomes, and monitor school policies and programs intended to promote health enhancing behaviors and outcomes among youth.

2. In support of the priorities for which you are applying build partnerships, alliances, networks, or coalitions related to increasing and promoting the health of youth. Include participation in state or city HIV prevention planning groups.

3. Reach populations of youth most at risk for health problems (especially among communities of color).

4. Provide professional development, technical assistance, and resources to local school districts and schools to prevent health problems among school-age youth (especially to address the priorities for which you are applying).

5. Inform decision makers, share information about policies and programs, disseminate information related to priority programs and activities related to working with media.

6. Evaluate programs intended to improve the health of youth.

f. (SEA Priority 2 applicants only) Describe how your agency currently uses Federal, State, local, and philanthropic funds, including categorical funds, to support infrastructure development and coordination of school health programs.

g. (SEA and LEA Priority 4 applicants only) Describe any activities conducted to assess the school health professional development needs of other education professionals and how the assessment results were used.

h. (SEA and LEA Priority 4 applicants only) Describe how your agency has planned and conducted multi-day training for a variety of participants.

3. Work Plan (Not More Than Ten Pages for Each Priority or Content Area)

Provide a separate, clearly labeled narrative work plan for each priority for which you are applying. Use of the template displayed in Attachment III is recommended. Applicants applying for SEA Priority 2-B or LEA Priority 3 should provide a separate work plan for each content area for which they are applying for funding (e.g., separate plan to reduce asthma episodes and absences in schools and a separate plan to help reduce food borne illness and improve student awareness of food safety). All applicants applying for more than one priority should describe how the priority area activities will complement one another and how planned activities will be coordinated. Each work plan should address the following:

a. Goals and Objectives: List measurable goals that indicate what your agency intends to accomplish, and with whom, by the end of the five-year project period. Goals should directly relate to the purposes of this announcement and the program requirements for the priority area for which you are applying. List objectives that are specific, measurable, and feasible to be accomplished during the first 12-month budget period. The objectives should relate directly to the project goals and program requirements and provide anticipated measures for successful performance.

b. Methods: Describe specific activities that are proposed to achieve each of the program's objectives during the first 12-month budget period. If you are establishing new structures and plans, and specific details are incomplete, provide a listing of major steps that will be implemented to establish these new structures and plans.

c. Indicate when each activity will be completed as well as when major steps in the activities will occur. For each activity, describe the roles of the staff and how they will carry out the activities. Summarize activities on a 12-month time line. If other organizations will participate in proposed activities, provide the name(s) of the organization(s) and identify the SEA or LEA staff person who will coordinate or supervise the activity.

d. Work Plan Evaluation: Describe how progress in meeting objectives and completing activities will be evaluated.

This description should include a process evaluation tracking plan to document all programmatic activities and accomplishments throughout the first 12 month budget period.

4. Project Management and Staffing Plan (Not More Than Four Pages per Priority or Content Area)

Provide a separate, clearly labeled project management and staffing plan for each priority for which you are applying. In addition, applicants applying for SEA Priority 2-B or LEA Priority 3 should provide a separate project management and staffing plan for each content area for which they are applying for funding (e.g., a separate plan to reduce asthma episodes and absences in schools and a separate plan to reduce food borne illness and improve student awareness of food safety). Assurance should be provided to show staff credentials, training, and skills to carry out Recipient Activities for the priority for which they will be responsible. Each management and staffing plan should immediately follow its corresponding work plan described under (3) Work Plan, above. Applicants applying for more than one priority should describe how the project management and staffing plan will be coordinated among priorities. All applicants should describe how they will communicate with staff working in related programs in other agencies. Each project management and staffing plan should address the following:

a. Provide the following supporting documents related to organizational structure:

1. A description of the proposed program management and control systems. Include an organizational chart that indicates placement of the proposed program in the agency (including the State health agency for SEA Priority 2 applicants) and that show lines of authority, communication, accountability and reporting.

2. A description of proposed SEA or LEA staffing for the project and job descriptions for existing and proposed positions that illustrate the level of responsibility that staff will have for implementing activities. (Also include state health agency staffing for SEA Priority 2 applicants).

3. A description of the business office responsible for monitoring Federal funds and how the office will work with proposed program management and staff. Identify the business staff person who will carry out these responsibilities.

b. In the appendix, include curriculum vitae (limited to two pages per person) for existing staff.

c. In the appendix, provide letters from all consultants or outside agencies named in the work plan that describe their expertise, capacity, and willingness to fulfill their proposed responsibilities specifically related to the priority area for which you are applying.

5. Program Evaluation (Not More Than Five Pages)

Monitoring and evaluation are considered essential components of this program announcement.

a. Provide plans for evaluating the overall implementation success and accomplishments of your program. Plans should include:

1. A description of monitoring activities that measure the status of school health policies and programs.

2. A specific program evaluation plan for at least one major programmatic activity implemented during the first 12-month budget period.

3. A specific program evaluation plan to assess the results of your program through the five-year project period.

b. Describe how these evaluation activities will be incrementally implemented to track progress made in developing, implementing the program, to measure changes in capacity and short-term outcomes.

c. Describe how evaluation results will be shared with CDC and others.

6. Budget and Budget Justification (Not More Than Eight Pages Per Priority or Content Area)

Provide a separate, clearly labeled budget and budget justification for each priority for which you are applying. In addition, applicants applying for SEA Priority 2-B or LEA Priority 3 should provide a separate budget and budget justification for each content area for which they are applying for funding (e.g., separate budget to reduce asthma episodes and absences in schools and a separate budget to reduce food borne illnesses and improve student awareness of food safety). Each budget and justification should immediately follow its corresponding staffing plan described under (4) Staffing, above. All applicants applying for more than one priority or content area should provide a budget summary page which displays each separate priority budget and also a total budget by object class category.

Each budget and budget justification should include the following:

a. A detailed line item budget for each priority or content area, with accompanying narrative justification of all operating expenses, that is linked to the stated objectives and work plan of the project. The budget justification should describe and justify individual budget items that make up the total amount of funds requested in each object class category for the first 12 month budget period (March 1, 2003 to February 28, 2004).

b. For all contracts and consultants, provide the following: (1) Name of contractor/consultant (2) method of selection (3) period of performance (4) scope of work (5) method of accountability and (6) itemized budget with justification for each contract/consultant.

c. Travel: Participation in CDC sponsored training workshops and meetings is essential to the effective implementation of funded programs. Travel for program implementation should be justified and related to implementation of activities. Participation or attendance in non-CDC sponsored professional meetings (e.g., American School Health Association, (AHA), American Public Health Association, (APHA) and others) may be requested but must be directly relevant to work plan activities. Participation may include the presentation of papers, poster sessions, or exhibits on the project. Specific requests should be submitted with appropriate justification. The annual travel budget should include:

• Travel funds for staff members to participate in national meetings in Atlanta, GA, for two to three days.

• Funds for HIV-funded staff to make one, two to three day trip to Atlanta for the CDC-sponsored National HIV Prevention Conference; and

• Funds for CSP staff members to make one, two to three day trip to Atlanta for CDC-sponsored workshops/ meetings, such as the National Conference on Chronic Disease Prevention and Control and the National Conference on Tobacco or Health.

d. Indirect Costs: If indirect costs are requested, include a copy of your agency's current negotiated Federal Indirect Cost Rate Agreement.

F. Submission and Deadline

Letter of Intent (LOI)

On or before October 7, 2002 submit the LOI to the Grants Management

Specialist identified in the “Where to Obtain Additional Information” section of this announcement.

Application

Submit the original and two copies of PHS Form 5161-1 (OMB Approval No. 0937-0189). Forms are available in the application kit and at the following Internet address: http://www.cdc.gov/od/pgo/forminfo.htm. If you do not have access to the internet, or if you have difficulty accessing the forms on-line, you may contact the CDC Procurement and Grants Office Technical Information Management Section at: (770) 488-2700, and forms will be mailed to you. Applications may not be submitted electronically.

Application forms must be submitted in the following order:

Cover Letter

Table of Contents

Application

Budget Information Form

Checklist

Assurances

Certifications

Disclosure Form

HIV Assurance Form (if applicable)

Human Subjects Certification (if applicable)

Indirect Cost Rate Agreement (if applicable)

Narrative

Applications must be received by 5 p.m. Eastern Time November 1, 2002. Submit the application and two copies to the: Technical Information Management Section, 2920 Brandywine Road, Suite 3000, Atlanta, GA 30341.

Deadline: Applications shall be considered as meeting the deadline if they are either:

(a) Received on or before the deadline date; or

(b) Sent on or before the deadline date and received in time for submission to the objective review group. (Applicants must request a legibly dated U.S. Postal Service postmark or obtain a legibly dated receipt from a commercial carrier or U.S. Postal Service. Private metered postmarks shall not be acceptable as proof of timely mailing).

Late Applications: Applications that do not meet the criteria in (a) or (b) above are considered late applications, will not be considered in the current competition, and will be returned to the applicant.

G. Evaluation Criteria (100 Points Total)

Applications for each priority and/or content area will be individually reviewed and scored. Each application will be allocated a total of 100 points, according to the following criteria:

1. Work Plan (35 Points)

The comprehensiveness and quality of the work plan as represented in the goals, objectives, and methods. Plans should be consistent with Recipient Activities for the priority for which you are applying. Plans will be evaluated based on the extent to which the applicant:

a. Proposes project goals that are results oriented.

b. Proposes first year objectives that will contribute to the accomplishment of the goals and provide reasonable measures for assessing performance.

c. Proposes methods that are likely to achieve each of the objectives for the 12-month budget period.

d. Identifies activities and performance measures that are consistent with the Recipient Activities.

e. Provides a reasonable schedule for implementing those activities.

f. Provides a reasonable plan for evaluating completion of objectives and methods.

2. Capacity (25 Points)

The extent to which the applicant appears likely to be successful in implementing the proposed activities as measured by:

a. The agency's structure and support for related programs.

b. The agency's prior performance reflected in descriptions of related policies and program efforts.

3. Project Management and Staffing Plan (20 Points)

The extent to which:

a. The applicant will establish and maintain staff positions at appropriate levels to carry out responsibilities described in the proposed work plan.

b. Organizational charts demonstrate clear lines of authority for project activities and coordination of related programs.

c. Job descriptions and curricula vitae indicate that staff will have the credentials, knowledge, training, and experience in working with schools and performing assigned responsibilities.

d. The fiscal management of proposed programs is clear, adequate, and business staff are identified.

e. Letters from consultants and organizations demonstrating their understanding, willingness, expertise, and capacity to carry out assigned responsibilities.

4. Program Evaluation (10 Points)

The extent to which the applicant describes plans for monitoring activities that measure the status of school health policies, programs, and evaluate at least one major program activity during the first 12 months. Describe plans for measuring and reporting overall program accomplishments over the five-year project period.

5. Background and Need (10 Points)

The extent and clarity with which the applicant:

a. Presents credible evidence describing relevant health risks and problems and the current status of efforts that target youth in schools and school health priorities.

b. Draws plausible conclusions about the need for proposed project activities and potential for achieving successful results.

c. (For SEA and LEA Priority 4 applicants) Has a clear understanding of the professional development content and delivery strategies that will help SEAS and other LEAVES improve HIV education, school health programs, and reach young persons in high-risk situations, especially among communities of color.

6. Budget and Accompanying Justification (Not scored) The extent to which the applicant provides a detailed budget and justification consistent with the stated objectives, planned activities, and expected performance of the project.

H. Technical Reporting Requirements

1. By October 15th of each of the first four years of the project (2003 thru 2006), submit a semi-annual progress report and continuation plan for the following year. The progress report will be used as evidence of achievement in meeting approved goals and objectives and progress made toward the attainment of the proposed performance measures. Continuation funding decisions will be made on the basis of satisfactory progress on performance measures and the availability of funds. The continuation plan should include:

a. HIV Assurance of Compliance Forms: One certifying compliance with Web Site Notice and one signed by the chairperson (CDC Form 0.1113), listing names of panel members, documentation of materials reviewed, stating the panel's decision (approval or disapproval) regarding materials reviewed. (Only grantees funded under SEA Priority 3 and LEA Priority 2 (HIV Prevention)—See Attachment IV).

b. A succinct description of progress made in meeting each program objective during the first six months of the budget period (March 1st thru September 30th). It should consist of no more than 50 pages.

c. Reasons for not meeting any program objectives.

d. A description of any new objectives including strategies to accomplish them and evaluate their effectiveness.

e. A line item budget and budget justification for the upcoming budget period.

f. For all proposed contracts and consultants: (1) The name of contractor or consultant (2) the method of selection (3) the period of performance (4) the scope of work (5) the method of accountability and (6) an itemized budget with justification for each contract or consultant.

2. By June 1st, 90 days after the end of each budget period, submit an annual progress report. The report should include information described in items 1.a., 1.b., and 1.c., except that the period covered should be the entire project year, March 1st thru February 28th, 2008.

3. By June 1st, 90 days after the end of each budget period, submit a financial status report.

4. No more than 90 days after the end of the five-year project period (June 1, 2008) submit final financial and performance reports.

Send an original and two copies of all reports to the Grants Management Specialist identified in the “Where to Obtain Additional Information” section of this announcement.

I. Additional Requirements

Projects that involve the collection of information from ten or more individuals and funded by cooperative agreement will be subject to review and approval by the Office of Management and Budget (OMB) under the Paperwork Reduction Act. Data collection initiated under this cooperative agreement program has been approved by the Office of Management and Budget under OMB Number (0920-0493), “2001-2003 Youth Risk Behavior Surveys,” Expiration Date—November 30, 2003.

The following additional requirements are applicable to this program. For a complete description of each, see Attachment II of the announcement.

AR-1 Human Subjects Requirement

AR-5 HIV Program Review Panel Requirements

AR-7 Executive Order 12372 Review

AR-9 Paperwork Reduction Act Requirements

AR-10 Smoke-Free Workplace Requirements

AR-11 Healthy People 2010

AR-12 Lobbying Restrictions

AR-13 Prohibition on Use of CDC Funds for Certain Gun Control Activities

AR-20 Conference Support

This program is not subject to the Public Health System Reporting Requirements.

J. Where To Obtain Additional Information

Other CDC announcements can be found on the CDC home page Internet address— http://www.cdc.gov. Click on “Funding” then “Grants and Cooperative Agreements.”

For general questions about this announcement, contact: Technical Information Section, CDC Procurement and Grants Office, 2920 Brandywine Road, Room 3000, Atlanta, GA 30341-4146, Telephone number: (770) 488-2700.

For business management and budget assistance, contact: Dave Wilson, Grants Management Specialist, Acquisitions and Assistance Branch, Procurement and Grants Office, Centers for Disease Control and Prevention, 2920 Brandywine Road, Room 3000, Atlanta, GA 30341-4146, Telephone number: (770) 488-2692, Email address: zbu1@cdc.gov.

For program technical assistance, contact: Pete Hunt, Chief, School Health Program Section, Program Development and Services Branch, Division of Adolescent and School Health, National Center for Chronic Disease Prevention and Health Promotion, Centers for Disease Control and Prevention (CDC), 4770 Burford Highway, NE., Mailstop K-31, Atlanta, GA 30341-3724, Telephone number: (770) 488-6208, e-mail address: pch0@cdc.gov.

Potential applicants may obtain copies of Attachments I, II, III, IV, and other documents referenced in the Purpose and Recipient Activities online at the following addresses:

• CDC's HIV Prevention Strategic Plan Through 2005: http://www.cdc.gov/nchstp/od/news/prevention.pdf.

• Healthy People 2010: http://www.health.gov/healthypeople.

• Guidelines for Effective School Health Education to Prevent the Spread of AIDS; Guidelines for School and Community Programs to Promote Lifelong Physical Activity Among Young People; Guidelines for School Health Programs to Promote Lifelong Healthy Eating; Guidelines for School Health Programs to Prevent Tobacco Use and Addiction; Ten Strategies for Establishing a School Health Program Framework To Support Physical Activity, Nutrition, and Tobacco Use Prevention; Strategies for Coordinated School Asthma Programs; Four Strategies for Establishing a State School Food Safety Program; and Six Strategies for Professional Development in Cooperative Agreements with State Education Agencies, Local Education Agencies, and National Non-governmental Organizations; http://www.cdc.gov/nccdphp/dash.

Dated: September 11, 2002.
Sandra R. Manning,
Director, Procurement and Grants Office, Centers for Disease Control and Prevention.

[FR Doc. 02-23555 Filed 9-16-02; 8:45 am]

BILLING CODE 4163-18-P